DEPARTMENT OF JUSTICE

Notice of Lodging of Consent Decree Under the Comprehensive Environmental Response, Compensation and Liability Act (“CERCLA”)

Notice is hereby given that on April 11, 2013, a proposed Consent Decree (“proposed Decree”) in United States v. Jay-Cee Cleaners, Inc., et al., Civil Action No. 2:13CV186 was lodged with the United States District Court for the Eastern District of Virginia.

In this action under Section 107(a) of the Comprehensive Environmental Response, Compensation, and Liability Act, 42 U.S.C. 9607(a) (“CERCLA”), the United States sought reimbursement of response costs incurred or to be incurred for response actions taken at or in connection with the release or threatened release of hazardous substances at the Jay-Cee Cleaners Superfund Site (“Site”) located at 16163 Lankford Highway in Nelsonia, Accomack County, Virginia. The proposed Decree requires Settling Defendants to pay 100% of the proceeds from the sale of the Site property to the United States in reimbursement of response costs. The proposed Decree also requires Settling Defendants to pay 50% of the proceeds from the sale of an adjacent property located behind the Site, known as “Poulson Lot 3,” and designated as Parcel Identification No. 069C00200000300 in the County of Accomack, Virginia Real Estate Taxable Landbook, as payment of a civil penalty for the alleged failure to comply with Section 104(e)(2) of CERCLA, 42 U.S.C. 9604(e)(2).

The publication of this notice opens a period for public comment on the proposed Decree. Comments should be addressed to the Assistant Attorney General, Environment and Natural Resources Division, and should refer to United States v. Jay-Cee Cleaners, Inc., et al., D.J. Ref. No. 90-11-3-09938/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Decree may be examined and downloaded at this Justice Department Web site: http://www.usdoj.gov/enrd/Consent_Decrees.html. We will provide a paper copy of the proposed Decree upon written request and payment of reproduction costs. Please mail your request and payment to:

Consent Decree Library, U.S. DOJ—ENRD, P.O. Box 7611, Washington, DC 20044-7611.

Please enclose a check or money order for $13.25 (.25 cents per page reproduction cost) payable to the United States Treasury.

Robert Brook,
Assistant Section Chief, Environmental Enforcement Section, Environment and Natural Resources Division.

[FR Doc. 2013-09203 Filed 4-18-13; 8:45 am]

BILLING CODE 4410-15-P